FEDERAL TRADE COMMISSION

[Docket No. C-4458]

CoreLogic Inc.; Analysis To Aid Public Comment

AGENCY: Federal Trade Commission.

ACTION: Proposed consent agreement.

SUMMARY: The consent agreement in this matter is intended to remedy the impact of CoreLogic's failure to comply fully with the Decision and Order previously issued in In the Matter of CoreLogic, Inc., Docket No. C-4458. The attached Analysis to Aid Public Comment describes the terms of the Order To Show Cause and Order Modifying Order—embodied in the consent agreement—that would remedy CoreLogic's failure to comply fully with the Decision and Order.

DATES: Comments must be received on or before April 16, 2018.

ADDRESSES: Interested parties may file a comment online or on paper, by following the instructions in the Request for Comment part of the SUPPLEMENTARY INFORMATION section below. Write: “In the Matter of CoreLogic, Inc., Docket No. C-4458” on your comment, and file your comment online at https://ftcpublic.commentworks.com/ftc/corelogicconsent by following the instructions on the web-based form. If you prefer to file your comment on paper, write “In the Matter of CoreLogic, Inc., Docket No. C-4458” on your comment and on the envelope, and mail your comment to the following address: Federal Trade Commission, Office of the Secretary, 600 Pennsylvania Avenue NW, Suite CC-5610 (Annex D), Washington, DC 20580, or deliver your comment to the following address: Federal Trade Commission, Office of the Secretary, Constitution Center, 400 7th Street SW, 5th Floor, Suite 5610 (Annex D), Washington, DC 20024.

FOR FURTHER INFORMATION CONTACT: Susan Huber (202-326-3331), Bureau of Competition, 600 Pennsylvania Avenue NW, Washington, DC 20580.

SUPPLEMENTARY INFORMATION: Pursuant to Section 6(f) of the Federal Trade Commission Act, 15 U.S.C. 46(f), and FTC Rule 2.34, 16 CFR 2.34, notice is hereby given that the above-captioned consent agreement containing a consent order to cease and desist, having been filed with and accepted, subject to final approval, by the Commission, has been placed on the public record for a period of thirty (30) days. The following Analysis to Aid Public Comment describes the terms of the consent agreement, and the allegations in the complaint. An electronic copy of the full text of the consent agreement package can be obtained from the FTC Home Page (for March 15, 2018), on the World Wide Web, at https://www.ftc.gov/news-events/commission-actions.

You can file a comment online or on paper. For the Commission to consider your comment, we must receive it on or before April 16, 2018. Write “In the Matter of CoreLogic, Inc., Docket No. C-4458” on your comment. Your comment—including your name and your state—will be placed on the public record of this proceeding, including, to the extent practicable, on the public Commission website, at https://www.ftc.gov/policy/public-comments.

Postal mail addressed to the Commission is subject to delay due to heightened security screening. As a result, we encourage you to submit your comments online. To make sure that the Commission considers your online comment, you must file it at https://ftcpublic.commentworks.com/ftc/corelogicconsent by following the instructions on the web-based form. If this Notice appears at http://www.regulations.gov/#!home, you also may file a comment through that website.

If you prefer to file your comment on paper, write “In the Matter of CoreLogic, Inc., Docket No. C-4458” on your comment and on the envelope, and mail your comment to the following address: Federal Trade Commission, Office of the Secretary, 600 Pennsylvania Avenue NW, Suite CC-5610 (Annex D), Washington, DC 20580, or deliver your comment to the following address: Federal Trade Commission, Office of the Secretary, Constitution Center, 400 7th Street SW, 5th Floor, Suite 5610 (Annex D), Washington, DC 20024. If possible, submit your paper comment to the Commission by courier or overnight service.

Because your comment will be placed on the publicly accessible FTC website at https://www.ftc.gov, you are solely responsible for making sure that your comment does not include any sensitive or confidential information. In particular, your comment should not include any sensitive personal information, such as your or anyone else's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by Section 6(f) of the FTC Act, 15 U.S.C. 46(f), and FTC Rule 4.10(a)(2), 16 CFR 4.10(a)(2)—including in particular competitively sensitive information such as costs, sales statistics, inventories, formulas, patterns, devices, manufacturing processes, or customer names.

Comments containing material for which confidential treatment is requested must be filed in paper form, must be clearly labeled “Confidential,” and must comply with FTC Rule 4.9(c). In particular, the written request for confidential treatment that accompanies the comment must include the factual and legal basis for the request, and must identify the specific portions of the comment to be withheld from the public record. See FTC Rule 4.9(c). Your comment will be kept confidential only if the General Counsel grants your request in accordance with the law and the public interest. Once your comment has been posted on the public FTC website—as legally required by FTC Rule 4.9(b)—we cannot redact or remove your comment from the FTC website, unless you submit a confidentiality request that meets the requirements for such treatment under FTC Rule 4.9(c), and the General Counsel grants that request.

Visit the FTC website at http://www.ftc.gov to read this Notice and the news release describing it. The FTC Act and other laws that the Commission administers permit the collection of public comments to consider and use in this proceeding, as appropriate. The Commission will consider all timely and responsive public comments that it receives on or before April 16, 2018. For information on the Commission's privacy policy, including routine uses permitted by the Privacy Act, see https://www.ftc.gov/site-information/privacy-policy.

Analysis of Agreement Containing Consent Orders To Aid Public Comment

I. Introduction

The Federal Trade Commission (“Commission”) has accepted for public comment, subject to final approval, an Agreement Containing Consent Order (“Consent Agreement”) from Respondent CoreLogic Inc. (“CoreLogic”). The Consent Agreement is intended to remedy the impact of CoreLogic's failure to comply fully with the Decision and Order previously issued in this matter.

Under the terms of the proposed Consent Agreement, CoreLogic consents to the Commission issuing an Order to Show Cause and Order Modifying Order. In the Order to Show Cause, the Commission describes the changes it proposes to make to the Decision and Order and the reasons these changes are necessary. CoreLogic disputes the allegations in the Order to Show Cause but consents to the Commission issuing the Order Modifying Order amending the Decision and Order.

The Commission has placed the proposed Consent Agreement on the public record for 30 days to solicit comments from interested persons. Comments received during this period will become part of the public record. After 30 days, the Commission will again review the proposed Consent Agreement and the comments received, and will decide whether it should withdraw from the Consent Agreement, modify it, or make it final.

II. The Respondent

Respondent CoreLogic is a publicly-traded company headquartered in Irvine, California. It provides real property information, analytics, and services to a broad array of customers. As part of its business, CoreLogic collects, maintains, and licenses aggregated county tax assessor and recorder data (“bulk data”) from across the United States.

III. The Decision and Order

In 2014, CoreLogic sought to acquire DataQuick Information Systems, Inc. (“DataQuick”), a subsidiary of TPG VI Ontario 1 AIV L.P. Both CoreLogic and DataQuick licensed bulk data to customers, and the Commission alleged that the acquisition would significantly increase concentration in the market for national bulk data in violation of the federal antitrust laws. CoreLogic agreed to settle the matter by divesting assets to Renwood RealtyTrac LLC (“RealtyTrac”) that would enable RealtyTrac to replace DataQuick in the market for national bulk data. The Commission issued the Decision and Order requiring the divestiture on May 20, 2014 and CoreLogic completed the acquisition of DataQuick soon thereafter.

The central requirement of the Decision and Order is that CoreLogic provide RealtyTrac with DataQuick's bulk data, and certain ancillary data that DataQuick sold with its bulk data so that RealtyTrac could compete on the same basis as DataQuick in the market affected by CoreLogic's acquisition. In addition, CoreLogic is required to license and provide updated bulk data to RealtyTrac for at least five years. CoreLogic is also required to provide information and assistance to RealtyTrac so that RealtyTrac can replicate DataQuick's ability to gather, license and maintain national bulk data after RealtyTrac's license with CoreLogic expires.

The Decision and Order requires CoreLogic to enter an agreement with RealtyTrac to license the required data within 10 days of purchasing DataQuick. Sixty days after entering the license with RealtyTrac, CoreLogic was to provide DataQuick's bulk data and begin delivering updated bulk data. CoreLogic and RealtyTrac entered their license agreement on March 26, 2014.

The Order also contains a number of provisions to support RealtyTrac's efforts to maintain competition in the bulk data market. CoreLogic must allow certain legacy DataQuick customers to terminate their DataQuick contracts in order to do business with RealtyTrac, and, during a period lasting until nine months after the Divestiture Date, include a six month termination clause in all new agreements with former DataQuick bulk data customers. In addition, the Decision and Order requires CoreLogic to facilitate RealtyTrac's ability to hire experienced DataQuick employees. Finally, the Order appoints Mr. Mitchell S. Pettit as monitor to oversee CoreLogic's compliance with the Order.

IV. The Order To Show Cause

When CoreLogic signed the Consent Agreement, it represented that it could fulfill the terms of the Decision and Order. Instead, soon after CoreLogic began delivering bulk data to RealtyTrac, RealtyTrac discovered that it was missing data that DataQuick has provided to bulk data customers. RealtyTrac continued to uncover additional missing data for at least the next 2 years. When RealtyTrac contacted CoreLogic about the missing data, CoreLogic provided the data, but at a time well after the deadline for providing data in the Order. Contrary to the requirements of the Order, CoreLogic did not proactively identify the full scope of bulk data that DataQuick had used and ensure CoreLogic was delivering this data to RealtyTrac. In addition, CoreLogic did not provide RealtyTrac, Commission staff, or the monitor with complete and accurate information regarding the manner in which DataQuick provided bulk data to customers.

CoreLogic also did not provide RealtyTrac certain data that DataQuick licensed from third parties. The Decision and Order requires CoreLogic to provide all of the bulk data that DataQuick used, including data licensed from third parties. CoreLogic agreed to this provision when it signed the Decision and Order. However, after the Commission entered the Decision and Order, CoreLogic informed Commission staff that it could not provide RealtyTrac with some of the required data because of limitations on DataQuick's rights to sublicense the data. CoreLogic offered to provide information and introductions to enable RealtyTrac to attempt to license the data from its owners. Although useful, this offer did not comply with Decision and Order and required RealtyTrac to expend additional resources not contemplated when the Commission issued the Decision and Order.

It also appears that CoreLogic did not provide all of the support to RealtyTrac that was required by the Order. For example, CoreLogic stopped standard third party testing of an ancillary product, in violation of the Decision and Order, and did not tell RealtyTrac or Commission staff that it had stopped this testing. RealtyTrac subsequently discovered a quality issue with the product that CoreLogic did not discover through its internal quality control processes. The issue was ultimately resolved and third party testing resumed.

To help resolve the issue of missing data, the Monitor hired a Technical Assistant, Dr. Thomas Teague. Dr. Teague helped the Monitor develop and recommend a technical plan to (i) identify the data that CoreLogic was required to provide under the Order, (ii) provide all missing data and information to RealtyTrac, and (iii) verify that the required data and information had been provided. With the help of the Monitor, CoreLogic is in the final stages of completing this plan with RealtyTrac. After that, CoreLogic will transfer of all required information regarding DataQuick's bulk data business to RealtyTrac.

CoreLogic's actions violated the Decision and Order and interfered with its remedial goal of maintaining competition in the market affected by CoreLogic's acquisition of DataQuick. CoreLogic slowed the delivery of DataQuick's bulk data and information to RealtyTrac. Further, RealtyTrac relied on CoreLogic's inaccurate assertions that it was providing RealtyTrac with all of DataQuick's bulk data. These actions, which violated its obligations under the Order, harmed RealtyTrac's reputation and required RealtyTrac to expend technical and financial resources to uncover missing data.

V. The Order Modifying Order

The most significant modification to the Decision and Order is a three-year extension of the period during which CoreLogic must provide updated bulk data to RealtyTrac. The initial five-year term in the Decision and Order will expire in March 2019. This extension will remediate the effect of CoreLogic's delays in providing all of the required data to RealtyTrac and extend CoreLogic's obligations through March 2022.

The Order Modifying Order also adds two detailed addenda to the Decision and Order: A Technical Transfer Plan and a Service Level Addendum. The Technical Transfer Plan identifies the steps CoreLogic will take to transfer required data and information. The Service Level Addendum requires CoreLogic to meet certain data quality metrics and identifies the steps that CoreLogic must take to resolve any quality issues that arise. The Order Modifying Order also requires CoreLogic to provide prior notice before modifying the DataQuick Fulfillment Platform, which will allow the Commission to verify that CoreLogic has not altered the platform in a manner that violates the Order.

Finally, the Order Modifying Order resets two deadlines and decreases the frequency of required compliance reports. CoreLogic must provide customers early termination rights until nine months after completion of the first portion of the Technical Transfer Plan and provide technical assistance to RealtyTrac until one year after completion of the Technical Transfer Plan. The frequency of interim compliance reports is extended from every 60 days to every 90 days. This reduces the burden on CoreLogic without diminishing the ability of the staff and the Monitor to effectively monitor CoreLogic's compliance with the Decision and Order and Order Modifying Order.

The Commission does not intend this analysis to constitute an official interpretation of the proposed Consent Agreement or to modify its terms in any way.

By direction of the Commission. Commissioner McSweeny not participating by reason of recusal.
Donald S. Clark,
Secretary.

[FR Doc. 2018-05799 Filed 3-21-18; 8:45 am]

BILLING CODE 6750-01-P